DEPARTMENT OF COMMERCE

International Trade Administration

[A-533-840]

Certain Frozen Warmwater Shrimp From India: Preliminary Results of Antidumping Duty Administrative Review; 2020-2021

AGENCY: Enforcement and Compliance, International Trade Administration, Department of Commerce.

SUMMARY: The Department of Commerce (Commerce) preliminarily determines that certain frozen warmwater shrimp (shrimp) from India is being, or is likely to be, sold in the United States at less than normal value (NV) during the period of review (POR) February 1, 2020, through January 31, 2021.

DATES: Applicable March 1, 2022.

FOR FURTHER INFORMATION CONTACT: Terre Keaton or Adam Simons, AD/CVD Operations, Office II, Enforcement and Compliance, International Trade Administration, U.S. Department of Commerce, 1401 Constitution Avenue NW, Washington, DC 20230; telephone: (202) 482-1280 or (202) 482-6172, respectively.

SUPPLEMENTARY INFORMATION:

Background

On April 1, 2021, based on a timely request for review, in accordance with 19 CFR 351.221(c)(1)(i), Commerce initiated an administrative review of the antidumping duty order on shrimp from India.¹ This review covers 163 producers and/or exporters of the subject merchandise. Commerce selected two mandatory respondents for individual examination: LNSK Green House Agro Products LLP (LNSK) and Royal Imports and Exports (Royal). For a complete description of the events that followed the initiation of this review, see the Preliminary Decision Memorandum.²

¹ See Initiation of Antidumping and Countervailing Duty Administrative Reviews, 86 FR 17124 (April 1, 2021).

² See Memorandum, “Decision Memorandum for the Preliminary Results of the 2020-2021 Administrative Review of the Antidumping Duty Order on Certain Frozen Warmwater Shrimp from India,” dated concurrently with, and hereby adopted by, this notice (Preliminary Decision Memorandum).

Scope of the Order

The merchandise subject to the order is certain frozen warmwater shrimp. The product is currently classified under the following Harmonized Tariff Schedule of the United States (HTSUS) item numbers: 0306.17.00.03, 0306.17.00.04, 0306.17.00.05, 0306.17.00.06, 0306.17.00.07, 0306.17.00.08, 0306.17.00.09, 0306.17.00.10, 0306.17.00.11, 0306.17.00.12, 0306.17.00.13, 0306.17.00.14, 0306.17.00.15, 0306.17.00.16, 0306.17.00.17, 0306.17.00.18, 0306.17.00.19, 0306.17.00.20, 0306.17.00.21, 0306.17.00.22, 0306.17.00.23, 0306.17.00.24, 0306.17.00.25, 0306.17.00.26, 0306.17.00.27, 0306.17.00.28, 0306.17.00.29, 0306.17.00.40, 0306.17.00.41, 0306.17.00.42, 1605.21.10.30, and 1605.29.10.10. Although the HTSUS numbers are provided for convenience and for customs purposes, the written product description remains dispositive.³

³ For a complete description of the scope of the order, see the Preliminary Decision Memorandum.

Methodology

Commerce is conducting this review in accordance with sections 751(a)(1)(B) and (2) of the Tariff Act of 1930, as amended (the Act). Export price is calculated in accordance with section 772 of the Act. NV is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of the topics discussed in the Preliminary Decision Memorandum is attached as an appendix to this notice.

Preliminary Results of the Review

As a result of this review, we preliminarily determine that weighted-average dumping margins exist for the respondents for the period February 1, 2020, through January 31, 2021, as follows:

Exporter/producer | Weighted- average dumping margin (percent)
LNSK Green House Agro Products LLP | 0.00
Royal Imports and Exports | 3.01
Companies Not Selected for Individual Review ⁴ | 3.01

Review-Specific Average Rate for Companies Not Selected for Individual Review

The exporters or producers not selected for individual review are listed in Appendix II.

⁴ Under section 735(c)(5)(A) of the Act, the all-others rate is normally “an amount equal to the weighted average of the estimated weighted-average dumping margins established for exporters and producers individually examined, excluding any margins that are zero or de minimis margins, and any margins determined entirely {on the basis of facts available}.” Because the margin calculated for LNSK in these preliminary results is zero, we have preliminarily assigned a dumping margin to these companies based on the rate calculated for Royal.

Disclosure and Public Comment

Commerce intends to disclose the calculations performed in connection with these preliminary results to interested parties within five days after the date of publication of this notice.⁵ Interested parties may submit case briefs to Commerce no later than 30 days after the date of publication of this notice.⁶ Rebuttal briefs, limited to issues raised in the case briefs, may be filed no later than seven days after the time limit for filing case briefs.⁷ Parties who submit case briefs or rebuttal briefs in this proceeding are encouraged to submit with each argument: (1) A statement of the issue; (2) a brief summary of the argument; and (3) a table of authorities.⁸ Case and rebuttal briefs should be filed using ACCESS.⁹

⁵ See 19 CFR 351.224(b).

⁶ See 19 CFR 351.309(c).

⁷ See 19 CFR 351.309(d).

⁸ See 19 CFR 351.309(c)(2) and (d)(2).

⁹ See 19 CFR 351.303.

Pursuant to 19 CFR 351.310(c), interested parties who wish to request a hearing must submit a written request to the Assistant Secretary for Enforcement and Compliance, U.S. Department of Commerce, filed electronically via ACCESS within 30 days after the date of publication of this notice.¹⁰ Hearing requests should contain: (1) The party's name, address, and telephone number; (2) the number of participants; and (3) a list of issues to be discussed. Oral presentations at the hearing will be limited to issues raised in the briefs. If a request for a hearing is made, parties will be notified of the time and date for the hearing.¹¹

¹⁰ See 19 CFR 351.310(c).

¹¹ See 19 CFR 351.310(d).

An electronically-filed document must be received successfully in its entirety by ACCESS by 5:00 p.m. Eastern Time on the established deadline.

Commerce intends to issue the final results of this administrative review, including the results of its analysis of issues raised in any written briefs, not later than 120 days after the date of publication of this notice, unless otherwise extended.¹²

¹² See section 751(a)(3)(A) of the Act.

Assessment Rates

Upon completion of the administrative review, Commerce shall determine, and U.S. Customs and Border Protection (CBP) shall assess, antidumping duties on all appropriate entries covered by this review.¹³

¹³ See 19 CFR 351.212(b)(1).

Pursuant to 19 CFR 351.212(b)(1), because both respondents reported the entered value for all of their U.S. sales, we will calculate importer-specific ad valorem duty assessment rates based on the ratio of the total amount of antidumping duties calculated for the examined sales to the total entered value of the sales for which entered value was reported. Where either the respondent's weighted-average dumping margin is zero or de minimis within the meaning of 19 CFR 351.106(c), or an importer-specific rate is zero or de minimis, we will instruct CBP to liquidate the appropriate entries without regard to antidumping duties.

Commerce's “automatic assessment” will apply to entries of subject merchandise during the POR produced by LNSK or Royal for which these companies did not know that the merchandise they sold to the intermediary (e.g., a reseller, trading company, or exporter) was destined for the United States. In such instances, we will instruct CBP to liquidate unreviewed entries at the all-others rate if there is no rate for the intermediate company(ies) involved in the transaction.¹⁴

¹⁴ For a full discussion of this practice, see Antidumping and Countervailing Duty Proceedings: Assessment of Antidumping Duties, 68 FR 23954 (May 6, 2003).

For the companies which were not selected for individual review, we will assign an assessment rate based on the review-specific average rate, calculated as noted in the “Preliminary Results of Review” section, above. The final results of this review shall be the basis for the assessment of antidumping duties on entries of merchandise covered by the final results of this review and for future deposits of estimated duties, where applicable.¹⁵

¹⁵ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously reviewed or investigated companies not participating in this review, the cash deposit will continue to be the company-specific rate published for the most recently completed segment; (3) if the exporter is not a firm covered in this review, or the less-than-fair-value (LTFV) investigation, but the manufacturer is, the cash deposit rate will be the rate established for the most recent segment for the manufacturer of the merchandise; and (4) the cash deposit rate for all other manufacturers or exporters will continue to be 10.17 percent, the all-others rate established in the LTFV investigation.¹⁶ These deposit requirements, when imposed, shall remain in effect until further notice.

¹⁶ See Notice of Amended Final Determination of Sale at Less Than Fair Value and Antidumping Duty Order: Certain Frozen Warmwater Shrimp from India, 70 FR 5147 (February 1, 2005).

Notification to Importers

This notice serves as a preliminary reminder to importers of their responsibility under 19 CFR 351.402(f) to file a certificate regarding the reimbursement of antidumping duties prior to liquidation of the relevant entries during this review period. Failure to comply with this requirement could result in the Commerce's presumption that reimbursement of antidumping duties occurred and the subsequent assessment of double antidumping duties.

Notification to Interested Parties

We are issuing and publishing these results in accordance with sections 751(a)(1) and 777(i)(1) of the Act.

Dated: February 22, 2022.
Ryan Majerus,
Deputy Assistant Secretary for Policy and Negotiations.

Appendix I

List of Topics Discussed in the Preliminary Decision Memorandum

I. Summary

II. Background

III. Scope of the Order

IV. Discussion of the Methodology

V. Currency Conversion

VI. Recommendation

Appendix II

Review-Specific Average Rate Applicable to Companies Not Selected for Individual Review

1. Abad Fisheries

2. Accelerated Freeze Drying Co.

3. ADF Foods Ltd.

4. Albys Agro Private Limited

5. Al-Hassan Overseas Private Limited

6. Allana Frozen Foods Pvt. Ltd.

7. Allanasons Ltd.

8. Alps Ice & Cold Storage Private Limited

9. Amarsagar Seafoods Private Limited

10. Amulya Seafoods

11. Anantha Seafoods Private Limited

12. Anjaneya Seafoods

13. Asvini Agro Exports

14. Ayshwarya Seafood Private Limited

15. B R Traders

16. Baby Marine Eastern Exports

17. Baby Marine Exports

18. Baby Marine International

19. Baby Marine Sarass

20. Baby Marine Ventures

21. Balasore Marine Exports Private Limited

22. BB Estates & Exports Private Limited

23. Bell Exim Private Limited

24. Bhatsons Aquatic Products

25. Bhavani Seafoods

26. Bijaya Marine Products

27. Blue Fin Frozen Foods Pvt. Ltd.

28. Blue Water Foods & Exports P. Ltd.

29. Bluepark Seafoods Pvt. Ltd.

30. Britto Seafood Exports Pvt Ltd.

31. Calcutta Seafoods Pvt. Ltd./Bay Seafood Pvt. Ltd./Elque & Co.

32. Canaan Marine Products

33. Capithan Exporting Co.

34. Cargomar Private Limited

35. Chakri Fisheries Private Limited

36. Chemmeens (Regd)

37. Cherukattu Industries (Marine Div)

38. Cochin Frozen Food Exports Pvt. Ltd.

39. Continental Fisheries India Private Limited

40. Coreline Exports

41. Corlim Marine Exports Pvt. Ltd.

42. CPF (India) Private Limited

43. Crystal Sea Foods Private Limited

44. Danica Aqua Exports Private Limited

45. Datla Sea Foods

46. Delsea Exports Pvt. Ltd.

47. Devi Sea Foods Limited ¹⁷

¹⁷ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we initiated this administrative review with respect to Devi only for shrimp produced in India where Devi acted as either the manufacturer or exporter (but not both).

48. Empire Industries Limited

49. Entel Food Products Private Limited

50. Esmario Export Enterprises

51. Everblue Sea Foods Private Limited

52. Febin Marine Foods Private Limited

53. Fedora Sea Foods Private Limited

54. Food Products Pvt., Ltd./Parayil Food Products Private Limited

55. Fouress Food Products Private Limited

56. Frontline Exports Pvt. Ltd.

57. G A Randerian Ltd.

58. Gadre Marine Exports (AKA Gadre Marine Exports Pvt. Ltd.)

59. Galaxy Maritech Exports P. Ltd.

60. Geo Aquatic Products (P) Ltd.

61. Godavari Mega Aqua Food Park Private Limited

62. Grandtrust Overseas (P) Ltd.

63. GVR Exports Pvt. Ltd.

64. Hari Marine Private Limited

65. Haripriya Marine Export Pvt. Ltd.

66. HIC ABF Special Foods Pvt. Ltd.

67. Hiravati Exports Pvt. Ltd.

68. Hiravati International Pvt. Ltd.

69. Hiravati Marine Products Private Limited

70. HMG Industries Limited

71. HN Indigos Private Limited

72. Hyson Exports Private Limited

73. Indian Aquatic Products

74. Indo Aquatics

75. Indo Fisheries

76. Indo French Shellfish Company Private Limited

77. International Freezefish Exports

78. Jinny Marine Traders

79. K.V. Marine Exports

80. Karunya Marine Exports Private Limited

81. Kaushalya Aqua Marine Product Exports Pvt. Ltd.

82. Kay Exports

83. Kings Marine Products

84. Koluthara Exports Ltd.

85. Libran Foods

86. Mangala Sea Products

87. Marine Harvest India

88. Megaa Moda Pvt. Ltd.

89. Milsha Agro Exports Private Limited

90. Milsha Sea Product

91. Minaxi Fisheries Private Limited

92. Mindhola Foods LLP

93. MMC Exports Limited

94. MTR Foods

95. Naik Frozen Foods Private Limited

96. Naik Oceanic Exports Pvt. Ltd./Rafiq Naik Exports Pvt. Ltd.

97. Naik Seafoods Limited

98. NAS Fisheries Pvt. Ltd.

99. Nine Up Frozen Foods

100. NK Marine Exports LLP

101. Nutrient Marine Foods Limited

102. Oceanic Edibles International Limited

103. Paragon Sea Foods Pvt. Ltd.

104. Paramount Seafoods

105. Pesca Marine Products Pvt., Ltd.

106. Pijikay International Exports P Ltd.

107. Pravesh Seafood Private Limited

108. Premier Exports International

109. Premier Marine Foods

110. Premier Seafoods Exim (P) Ltd.

111. Raju Exports

112. Raunaq Ice & Cold Storage

113. RDR Exports

114. RF Exports Private Limited

115. Riyarchita Agro Farming Private Limited

116. Rupsha Fish Private Limited

117. R V R Marine Products Private Limited

118. S Chanchala Combines Private Limited

119. Sagar Samrat Seafoods

120. Sahada Exports

121. Samaki Exports Private Limited

122. Sasoondock Matsyodyog Sahakari Society Ltd.

123. Sea Doris Marine Exports

124. Seagold Overseas Pvt. Ltd.

125. Shimpo Exports Private Limited

126. Shimpo Seafoods Private Limited

127. Shiva Frozen Food Exp. Pvt. Ltd.

128. Shroff Processed Food & Cold Storage P Ltd.

129. Silver Seafood

130. Sita Marine Exports

131. Sonia Fisheries

132. Sri Sakkthi Cold Storage

133. Srikanth International

134. SSF Ltd.

135. Star Agro Marine Exports Private Limited

136. Star Organic Foods Private Limited

137. Stellar Marine Foods Private Limited

138. Sterling Foods

139. Summit Marine Exports Private Limited

140. Sun Agro Exim

141. Supran Exim Private Limited

142. Suvarna Rekha Exports Private Limited

143. Suvarna Rekha Marines P Ltd.

144. TBR Exports Pvt. Ltd.

145. Teekay Marine P Ltd.

146. The Waterbase Limited

147. Torry Harris Seafoods Ltd.

148. Triveni Fisheries P Ltd.

149. U & Company Marine Exports

150. Ulka Sea Foods Private Limited

151. Uniroyal Marine Exports Ltd.

152. Unitriveni Overseas Private Limited

153. Vaisakhi Bio-Marine Pvt. Ltd.

154. Vasai Frozen Food Co.

155. Veronica Marine Exports Private Limited

156. Victoria Marine & Agro Exports Ltd.

157. Vinner Marine

158. Vitality Aquaculture Pvt. Ltd.

159. VKM Foods Private Limited

160. VRC Marine Foods LLP

161. Zeal Aqua Limited

[FR Doc. 2022-04182 Filed 2-28-22; 8:45 am]

BILLING CODE 3510-DS-P